DEPARTMENT OF LABOR

Employment Standards Administration

Proposed Extension of the Approval of Information Collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend OMB approval of the information collection: Office of Federal Contract Compliance Programs Recordkeeping and Reporting Requirements, Construction. A copy of the proposed information collection request can be obtained by contacting the office listed below in the addresses section of this Notice.

DATES: Written comments must be submitted to the office listed in the addresses section below on or before August 18, 2008.

ADDRESSES: Ms. Hazel M. Bell, U.S. Department of Labor, 200 Constitution Ave., NW., Room S-3201, Washington, DC 20210, telephone (202) 693-0418, fax (202) 693-1451, E-mail Bell.Hazel@dol.gov. Please use only one method of transmission for comments (mail, fax, or E-mail).

SUPPLEMENTARY INFORMATION:

I. Background

The Office of Federal Contract Compliance Programs (OFCCP) is responsible for the administration of three equal opportunity programs prohibiting employment discrimination and requiring affirmative action. The OFCCP administers Executive Order 11246, as amended; Section 503 of the Rehabilitation Act of 1973, as amended (Section 503); and the affirmative action provisions of the Vietnam Era Veterans' Readjustment Assistance Act of 1974, as amended (VEVRAA), 38 U.S.C. 4212. The regulations implementing the Executive Order program are found at 41 CFR Parts 60-1, 60-2, 60-3, 60-4, 60-20, 60-30, 60-40, and 60-50. The regulations implementing Section 503 are published at 41 CFR Part 60-741. The regulations implementing VEVRAA are found at 41 CFR Part 60-250 and 41 CFR Part 60-300. These regulations require contractors to develop and maintain Affirmative Action Programs (AAP). OFCCP reviews these AAPs through its compliance evaluation process. For purposes of this clearance request, the programs have been divided functionally into two categories, construction and supply and service. This information collection request covers the recordkeeping and reporting requirements for the functional aspects of the program involving construction. A separate information collection request covers the recordkeeping and reporting requirements for functional aspects of the program involving supply and service, and is approved under the Office of Management and Budget (OMB) Number 1215-0072.

On December 13, 2005, OMB approved without change this Information Collection through December 31, 2008. The December 13, 2005 submission included an internal assessment of the burden hours associated with the construction program. OFCCP updated the internal assessment and included the burden hour results of the internal assessment in this Federal Register Notice, for which OFCCP is seeking public comments. The results of the internal study, along with the public comments, will be incorporated in the final information collection requirement seeking a three-year approval.

The Department of Labor invites comments on the accuracy of the estimated universe of 240,534 Federal contractor construction firms. OFCCP developed this estimate through a multi-step process. First, OFCCP obtained the total number of construction firms in the United States from statistics compiled by the U.S. Census Bureau in 2002. The census compilation indicated that there were 601,339 construction firms in the United States.

This total was calculated by adding Nonresidential building construction (NAICS 2362), Heavy and civil engineering construction (NAICS 237), Specialty trade contractors (NAIC 238), and Other specialty trade contractors (NAICS 2389). Because all construction firms are not covered contractors within OFCCP's jurisdiction, OFCCP developed an estimate of the percentage of firms that are covered contractors by examining the percentage of supply and service firms that are covered contractors. Employer Information Report (EEO-1) forms filed annually by many employers provide information on the supply and service universe of Federal contractors. Relying on this EEO-1 data, OFCCP found that there were 25,681 supply and service consolidated EEO-1 Reports filed in FY 2002. This is a reasonable approximation of the total number of supply and service firms in the United States. Of these firms, 10,498 (40.8%) indicated that they were Federal contractors. For these estimates, we assumed, based on the proportion of Supply and Service contactors that self-identified themselves on the EEO-1 Reports as federal contractors, that 40 percent of the construction firms would hold one or more federal or federally assisted construction contracts. Based on the above process, OFCCP estimated that 40.0% of the 601,339 construction firms, or 240,534 firms, are Federal or federally-assisted construction contractors.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

The Department of Labor seeks the approval for the extension of this currently approved information collection in order to carry out its responsibility to ensure that contractors develop and maintain Affirmative Action Programs.

Type of Review: Extension.

Agency: Employment Standards Administration.

Title: OFCCP Recordkeeping and Reporting Requirements, Construction.

OMB Number: 1215-0163.

Affected Public: Business or other for-profit, not-for-profit institutions.

Total Respondents: 240,534.

Total Annual Responses: 240,534.

Average Time per Response, Recordkeeping: 10.3 hours.

Average Time per Response, Reporting: 0 hours.

Affirmative Action Program, Initial Development: 43,290 hours.

Affirmative Action Program, Annual Update: 162,360 hours.

Compliance Reviews: 669 hours.

Total Burden Hours, Recordkeeping and Reporting: 2,491,396.

Frequency: Annually.

Total Burden Cost (capital/startup): $84,099.

Total Burden Cost (operating/maintenance): $0.

Comments submitted in response to this notice will be summarized and/or included in the request for Office of Management and Budget approval of the information collection request; they will also become a matter of public record.

Dated: June 12, 2008.
Hazel M. Bell,
Acting Chief, Branch of Management Review and Internal Control, Division of Financial Management, Office of Management, Administration and Planning, Employment Standards Administration.

[FR Doc. E8-13555 Filed 6-16-08; 8:45 am]

BILLING CODE 4510-CM-P